DEPARTMENT OF TRANSPORTATION

Federal Railroad Administration

[Docket No. FRA-2017-0002-N-5]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Request (ICR) abstracted below to the Office of Management and Budget (OMB) for review and comment. The ICR describes the information collection and its expected burden. On October 26, 2018, FRA published a notice providing a 60-day period for public comment on the ICR.

DATES: Interested persons are invited to submit comments on or before June 6, 2019.

ADDRESSES: Submit written comments on the ICR to the Office of Information and Regulatory Affairs, Office of Management and Budget, 725 17th Street NW, Washington, DC 20503, Attention: FRA Desk Officer. Comments may also be sent via email to OMB at the following address: oira_submissions@omb.eop.gov.

FOR FURTHER INFORMATION CONTACT: Ms. Rachel Grice, Engineering Psychologist, Office of Railroad Policy & Development, Human Factors Division, Federal Railroad Administration, 1200 New Jersey Avenue SE, Washington, DC 20590 (telephone: (202) 493-8005); or Ms. Kim Toone, Information Collection Clearance Officer, Office of Administration, Office of Information Technology, Federal Railroad Administration, 1200 New Jersey Avenue SE, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On October 26, 2018, FRA published a 60-day notice in the Federal Register soliciting comment on the ICR for which it is now seeking OMB approval. See 83 FR 54173. FRA received one comment in response to this notice from the Transportation Trades Department, AFL-CIO (TTD). TTD questioned the scope of the study due to the intent to survey locomotive engineers, while excluding conductors, whom TTD contends are equally likely to suffer additional fatigue due to commute time. TTD explained that, like engineers, conductors are required to perform a number of safety-sensitive functions on the job, which can be hampered by fatigue. Additionally, TTD notes the hours of service statute and regulations do not differentiate between the two occupations, providing identical fatigue protections for all “train employees.” To address these concerns, FRA revised the scope of the study to include conductors in addition to locomotive engineers. The inclusion of conductors will enable FRA to get the most complete results from this study on fatigue conditions.

Before OMB decides whether to approve this proposed collection of information, it must provide 30 days for public comment. Federal law requires OMB to approve or disapprove paperwork packages between 30 and 60 days after the 30-day notice is published. 44 U.S.C. 3507(b)-(c); 5 CFR 1320.10(b); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: The Impact of Commute Times on the Fatigue and Safety of Locomotive Engineers and Conductors.

OMB Control Number: 2130-NEW.

Abstract: Time-on-task and time awake are two well-known factors that contribute to fatigue. Time-on-task refers to the length of time a person has been performing a task, whereas time awake refers to the length of time since a person last slept. Both these factors can have a detrimental effect on performance, with the risk of adverse safety events (e.g., crashes) increasing as the length of time that a person performs a task or remains awake increases. These factors also influence each other; that is, the negative effects of increasing time-on-task may become evident sooner if the person has also been awake for a long time. Drivers with longer commutes experience greater time awake and time-on-task than drivers with shorter commutes. A growing body of evidence from a number of industries (e.g., medical, mining, long-haul trucking) suggests that commuting time has a detrimental impact on driving performance, particularly when combined with night-time shift work. However, the extent to which these factors impact the fatigue and safety of locomotive engineers and conductors remains unknown.

Type of Request: New information collection.

Affected Public: Railroad Workers.

Form(s): FRA F 245.

Respondent Universe: 69,000 total (31,000 locomotive engineers and 38,000 conductors).

Frequency of Submission: Single submission per person.

Reporting Burden: The estimated total annual burden is 3,450 hours across the 10,350 locomotive engineers and conductors (estimating a 15% response rate). Each respondent completes a single online questionnaire and the questionnaire is estimated to take 20 minutes.

Total Estimated Annual Responses: 10,350 responses.

Total Estimated Annual Burden: 3,450 hours.

Under 44 U.S.C. 3507(a) and 5 CFR 1320.5(b) and 1320.8(b)(3)(vi), FRA informs all interested parties that it may not conduct or sponsor, and a respondent is not required to respond to a collection of information unless it displays a currently valid OMB control number.

Authority: 44 U.S.C. 3501-3520.

Brett A. Jortland,
Acting Chief Counsel.

[FR Doc. 2019-09272 Filed 5-6-19; 8:45 am]

BILLING CODE 4910-06-P